DEPARTMENT OF COMMERCE

National Oceanic and Atmospheric Administration

RIN 0648-XB110

Marine Mammals; File No. 17159

AGENCY: National Marine Fisheries Service (NMFS), National Oceanic and Atmospheric Administration (NOAA), Commerce.

ACTION: Notice; issuance of permit.

SUMMARY: Notice is hereby given that a permit has been issued to Simon Nash, Parthenon Entertainment Ltd, 34 Whiteladies Road, Bristol, BS8 2LG, United Kingdom, to conduct commercial or educational photography on spinner dolphins (Stenella longirostris).

ADDRESSES: The permit and related documents are available for review upon written request or by appointment in the following offices:

Permits and Conservation Division, Office of Protected Resources, NMFS, 1315 East-West Highway, Room 13705, Silver Spring, MD 20910; phone (301) 427-8401; fax (301) 713-0376; and

Pacific Islands Region, NMFS, 1601 Kapiolani Blvd., Rm 1110, Honolulu, HI 96814-4700; phone (808) 944-2200; fax (808) 973-2941.

FOR FURTHER INFORMATION CONTACT: Carrie Hubard or Kristy Beard, (301) 427-8401.

SUPPLEMENTARY INFORMATION: On March 26, 2012, notice was published in the Federal Register (77 FR 17458) that a request for a permit to conduct commercial/educational photography on spinner dolphins had been submitted by the above-named applicant. The requested permit has been issued under the authority of the Marine Mammal Protection Act of 1972, as amended (16 U.S.C. 1361 et seq.) and the regulations governing the taking and importing of marine mammals (50 CFR part 216),

Permit No. 17159 authorizes Mr. Nash to take spinner dolphins during filming near Midway Atoll in the Pacific Ocean. Filming techniques include above water from a vessel, a pole-mounted underwater camera, and a waterproof camera used by a snorkeling cameraman. Up to 1,300 dolphins may be approached annually during filming activities. Footage will be used primarily for a television documentary about Hawaiian wildlife that would be aired on Animal Planet in the U.S. and elsewhere internationally. The initial filming period is scheduled for two weeks in June/July 2012. The permit expires on May 31, 2017.

In compliance with the National Environmental Policy Act of 1969 (42 U.S.C. 4321 et seq.), a final determination has been made that the activity proposed is categorically excluded from the requirement to prepare an environmental assessment or environmental impact statement.

Dated: May 30, 2012.
Tammy C. Adams,
Acting Chief, Permits and Conservation Division, Office of Protected Resources, National Marine Fisheries Service.

[FR Doc. 2012-13573 Filed 6-4-12; 8:45 am]

BILLING CODE 3510-22-P